DEPARTMENT OF AGRICULTURE

Farm Service Agency

Interim National Drought Council

AGENCY: Farm Service Agency, USDA.

ACTION: Notice of Interim National Drought Council meeting.

SUMMARY: The Interim National Drought Council (Interim Council) was established through a Memorandum of Understanding (MOU) between Federal Agencies; State, local, and tribal governments; and groups impacted by drought. The Interim Council's purpose is to coordinate activities between and among its members. All meetings are open to the public; however, seating is limited and available on a first-come basis.

DATES: The Interim Council will meet on June 21, 2001, from 8:00 a.m. Pacific Daylight Time (PDT) to 5:00 p.m. PDT at the Marriott Residence Inn, Portland Downtown—RiverPlace, 2115 SW. River Parkway, Portland, Oregon, 97201, in the Broadway Room and on June 22, 2001, from 8:00 a.m. PDT to 12:00 noon PDT, at the National Water and Climate Center (NWCC) of the Natural Resources Conservation Service, United States Department of Agriculture (USDA), 101 SW. Main Street, Suite 1600, in Portland, Oregon 97204-3224. The June 21 meeting will be a listening session to provide an opportunity for Federal, State, and local officials; practitioners; and the general public to give their input on how they are being affected by the current drought in the Pacific Northwest. On June 22, the Interim Council will assess its current overall effectiveness and discuss ways to improve its service delivery and assistance.

FOR FURTHER INFORMATION CONTACT: Leona Dittus, Executive Director, Interim National Drought Council, United States Department of Agriculture (USDA), 1400 Independence Avenue, SW., Room 6701-S, STOP 0501, Washington, D.C., 20250-0501 or telephone (202) 720-3168; FAX (202) 720-9688; internet leona.dittus@usda.gov.

SUPPLEMENTARY INFORMATION: The purpose of the MOU is to establish a more comprehensive, integrated, coordinated approach toward reducing the impacts of drought through better preparedness, monitoring and prediction, risk management, and response to drought emergencies in the United States. The Interim Council will encourage cooperation and coordination between and among Federal, State, local, and tribal governments and others, relative to preparation for and response to serious drought emergencies. Activities of the Interim Council include providing coordination to: (a) resolve drought related issues, (b) exchange information about lessons learned, and (c) improve public awareness of the need for drought planning and mitigation measures. The Interim Council is co-chaired by the Secretary of Agriculture or her designee, and a non-Federal co-chair, Ms. Ane D. Deister, Executive Assistant to the General Manager, Metropolitan Water District of Southern California, representing urban water interests. Administrative staff support essential to the execution of the Interim Council's responsibilities shall be provided by USDA.

The Interim Council will continue in effect for 5 years or until Congress establishes a permanent National Drought Council.

If special accommodations are required, please contact Leona Dittus, at the address specified above, by COB June 18, 2001.

Signed at Washington, D.C., on May 24, 2001.
James R. Little,
Acting Administrator, Farm Service Agency.

[FR Doc. 01-13755 Filed 5-31-01; 8:45 am]

BILLING CODE 3410-05-P